DEPARTMENT OF ENERGY

Notice of Availability of the Final Tank Closure and Waste Management Environmental Impact Statement for the Hanford Site, Richland, Washington

AGENCY: U.S. Department of Energy.

ACTION: Notice of Availability.

SUMMARY: The U.S. Department of Energy (DOE) announces the availability of its Final Tank Closure and Waste Management Environmental Impact Statement for the Hanford Site, Richland, Washington (Final TC & WM EIS, DOE/EIS-0391), prepared pursuant to the National Environmental Policy Act (NEPA). This final environmental impact statement addresses all public comments on the Draft TC & WM EIS, which was issued in October 2009, and identifies DOE's preferred alternatives.

DATES: DOE will publish a Record of Decision no sooner than 30 days after publication of the U.S. Environmental Protection Agency's (EPA) Notice of Availability in the Federal Register.

ADDRESSES: Copies of the Final TC &WM EIS (paper or electronic) may be obtained by contacting:

Ms. Mary Beth Burandt, NEPA Document Manager, Office of River Protection, U.S. Department of Energy, P.O. Box 1178, Richland, Washington 99352, Email: TC&WMEIS@saic.com.

The Final TC & WM EIS is also available on the DOE NEPA Web site at http://energy.gov/nepa, as well as in the public reading rooms listed in SUPPLEMENTARY INFORMATION.

FOR FURTHER INFORMATION CONTACT: For further information on the Final TC & WM EIS, contact Ms. Burandt at the address listed in ADDRESSES or by telephone at 1-888-829-6347. For general information regarding the DOE NEPA process, contact:

Ms. Carol M. Borgstrom, Director, Office of NEPA Policy and Compliance, GC-54, U. S. Department of Energy, 1000 Independence Avenue SW., Washington, DC 20585, Telephone: 202-586-4600, or leave a message at 1-800-472-2756, Email: askNEPA@hq.doe.gov.

Additional information on the Final TC & WM EIS is also available through the Hanford Web site at http://www.hanford.gov/.

SUPPLEMENTARY INFORMATION:

Background

The Hanford Site, located in southeastern Washington State along the Columbia River, is approximately 586 square miles in size. Hanford's mission from the early 1940s to approximately 1989 included defense-related nuclear research, development, and weapons production activities. These activities created a wide variety of chemical and radioactive wastes. Hanford's mission now is focused on the cleanup of those wastes and ultimate closure of the Site. An important part of the mission includes the retrieval and treatment of waste from 177 underground radioactive waste storage tanks, including 149 single shell tanks (SSTs), and closure of the SSTs. Hanford's mission also includes radioactive waste management on the Site and decommissioning of the Fast Flux Test Facility (FFTF), a nuclear test reactor that has been designated for closure.

To support its decision making for these actions, DOE prepared the TC & WM EIS pursuant to NEPA and in accordance with Council on Environmental Quality and DOE NEPA implementing regulations (40 CFR Parts 1500-1508; 10 CFR Part 1021). EPA and the Washington State Department of Ecology are cooperating agencies on this EIS. DOE held a public comment period on the draft EIS that extended from October 30, 2009, through May 3, 2010, with public hearings in Washington, Oregon, and Idaho. DOE considered all public comments received in preparing the Final TC & WM EIS, which includes DOE's responses to those comments.

Scope of the TC & WM EIS

The Final TC & WM EIS addresses proposed actions in three major areas: Retrieving and treating radioactive waste from 177 underground storage tanks at Hanford, including 149 SSTs and closure of the SSTs; decommissioning the FFTF and its auxiliary facilities; and continued and expanded solid waste management operations, including disposal of low-level radioactive waste and mixed low-level radioactive waste. The final EIS also includes a No Action Alternative to the proposed actions for each of the three major areas, as required by NEPA.

DOE's preferred alternatives are described in the Summary, Section S.7, and in Chapter 2, Section 2.12, of Volume 1 of the Final TC & WM EIS. Copies of the Final TC & WM EIS are available in the following public reading rooms or via the means identified in ADDRESSES.

Public Reading Rooms

Gonzaga University, Foley Center Library, 101-L East 502 Boone, Spokane, Washington 99258, (509) 313-5931.

Portland State University, Government Information, Branford Price Millar Library, 1875 SW Park Avenue, Portland, Oregon 97201, (503) 725-5874.

University of Washington, Suzzallo-Allen Library, Government Publications Division, Seattle, Washington 98195, (206) 543-4164.

U.S. Department of Energy, Public Reading Room, 1776 Science Center Drive, Idaho Falls, Idaho 83402, (208) 526-5190.

U.S. Department of Energy, Freedom of Information Reading Room, 1000 Independence Avenue SW., 1G-033, Washington, DC 20585, (202) 586-5955.

U.S. Department of Energy, Public Reading Room, Consolidated Information Center, 2770 University Drive, Room 101L, Richland, Washington 99352, (509) 372-7443.

U.S. Department of Energy, WIPP Information Center, Skeen-Whitlock Building, 4021 National Parks Highway, Carlsbad, New Mexico 88220, (575) 234-7348.

Issued in Washington, DC, on December 10, 2012.
Mark A. Gilbertson,
Deputy Assistant Secretary for Site Restoration.

[FR Doc. 2012-30204 Filed 12-13-12; 8:45 am]

BILLING CODE 6450-01-P